DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Hot Spring County, Arkansas, and Incorporated Areas
Docket No.: FEMA-B-1091
Chatman Creek | Approximately 900 feet downstream of Grigsby Ford Road | +254 | Unincorporated Areas of Hot Spring County.
| Just upstream of State Highway 9 | +307
Rockport Creek | Approximately 2,300 feet downstream of Martin Luther King Boulevard | +260 | Unincorporated Areas of Hot Spring County.
| Approximately 1,300 feet downstream of Martin Luther King Boulevard | +263
Town Creek | Approximately 2,300 feet downstream of Walco Road | +253 | Unincorporated Areas of Hot Spring County.
| Just downstream of Mount Willow Road | +298
* National Geodetic Vertical Datum.
+ North American Vertical Datum.
# Depth in feet above ground.
‸ Mean Sea Level, rounded to the nearest 0.1 meter.
ADDRESSES
Unincorporated Areas of Hot Spring County
Maps are available for inspection at 210 Locust Street, Malvern, AR 72104.
Vernon Parish, Louisiana, and Incorporated Areas
Docket No.: FEMA-B-1080
Bayou Castor | Approximately 1 mile downstream of Slagle Road | +225 | City of Leesville, Unincorporated Areas of Vernon Parish.
| Approximately 700 feet upstream of the confluence with Stream No. 1 | +231
Sabine River | Approximately 2.67 miles downstream of Neal Loop | +85 | Unincorporated Areas of Vernon Parish.
| Approximately 2.3 miles upstream of Parish Road 113 | +115
Stream No. 1 | At the confluence with Stream No. 2 | +231 | City of Leesville, Unincorporated Areas of Vernon Parish.
| Just downstream of Herring Street | +237
Stream No. 2 | At the confluence with Stream No. 1 | +231 | City of Leesville.
| Just downstream of 5th Street | +244
Stream No. 3 | Approximately 780 feet upstream of Franklin Avenue | +224 | City of Leesville.
| Just downstream of West Texas Street | +253
* National Geodetic Vertical Datum.
+ North American Vertical Datum.
# Depth in feet above ground.
‸ Mean Sea Level, rounded to the nearest 0.1 meter.
ADDRESSES
City of Leesville
Maps are available for inspection at City Hall, 101 West Lee Street, Leesville, LA 71446.
Unincorporated Areas of Vernon Parish
Maps are available for inspection at the Police Jury, 602 Alexandria Highway, Leesville, LA 71446.
Abbeville County, South Carolina, and Incorporated Areas
Docket No.: FEMA-B-1085
Blue Hill Creek | Approximately 1,546 feet downstream of South Main Street | +462 | City of Abbeville.
| Approximately 1,484 feet upstream of Vienna Street | +501
Blue Hill Creek Tributary | Approximately 315 feet upstream of the confluence with Blue Hill Creek | +494 | City of Abbeville.
| Approximately 100 feet upstream of Haigler Street Extended | +559
* National Geodetic Vertical Datum.
+ North American Vertical Datum.
# Depth in feet above ground.
‸ Mean Sea Level, rounded to the nearest 0.1 meter.
ADDRESSES
City of Abbeville
Maps are available for inspection at the Fire Department, 102 South Main Street, Abbeville, SC 29620.
Edgefield County, South Carolina, and Incorporated Areas
Docket No.: FEMA-B-1085
Stevens Creek | Approximately 200 feet downstream of Woodland Road | +191 | Unincorporated Areas of Edgefield County.
| At the confluence with the Savannah River | +191
* National Geodetic Vertical Datum.
+ North American Vertical Datum.
# Depth in feet above ground.
‸ Mean Sea Level, rounded to the nearest 0.1 meter.
ADDRESSES
Unincorporated Areas of Edgefield County
Maps are available for inspection at the Edgefield County Courthouse, 124 Courthouse Square, Edgefield, SC 29824.

(Catalog of Federal Domestic Assistance No. 97.022, “Flood Insurance.”)

Dated: December 7, 2010.
Sandra K. Knight,
Deputy Federal Insurance and Mitigation Administrator, Mitigation, Department of Homeland Security, Federal Emergency Management Agency.

[FR Doc. 2010-31547 Filed 12-15-10; 8:45 am]

BILLING CODE 9110-12-P